ENVIRONMENTAL PROTECTION AGENCY

40 CFR Part 52

[Docket # ID-03-003; FRL-7941-7]

Approval and Promulgation of Air Quality Implementation Plan; Idaho; Correction

AGENCY: Environmental Protection Agency (EPA).

ACTION: Final rule; correction.

SUMMARY: This document corrects the preamble to a final rule published in the Federal Register of July 11, 2005 (70 FR 39658) regarding revisions to the open burning regulations in Idaho's State Implementation Plan. This notice clarifies that, under section 307(b)(1) of the Clean Air Act, any petition for judicial review of this action must be filed in the United States Court of Appeals for the appropriate circuit within 60 days from the date notice of approval appeared in the Federal Register, and not 30 days, as erroneously stated in July 11, 2005 action.

FOR FURTHER INFORMATION CONTACT: Donna Deneen, (206) 553-6706.

SUPPLEMENTARY INFORMATION:

Correction

In the final rule, beginning on page 39658 in the issue of July 11, 2005, make the following correction, in the SUPPLEMENTARY INFORMATION section. On page 39661 in the 3rd column, remove “August 10, 2005” in the first paragraph and replace it with ”September 9, 2005”.

Dated: July 14, 2005.
Michelle Pirzadeh,
Acting Regional Administrator, Region 10.

[FR Doc. 05-14399 Filed 7-20-05; 8:45 am]

BILLING CODE 6560-50-M